DEPARTMENT OF VETERANS AFFAIRS

Privacy Act of 1974; Matching Program

AGENCY: Department of Veterans Affairs (VA).

ACTION: Notice of a modified matching program.

SUMMARY: This is an 18-month re-establishment computer matching agreement (CMA) with the Defense Manpower Data Center (DMDC), Department of Defense (DoD) and the Department of Veterans Affairs (VA), Veterans Benefits Administration (VBA), regarding Veterans who are in drilling status and also in receipt of compensation or pension benefits. The purpose of this CMA is to re-establish the agreement between VA, Veterans Benefits Administration (VBA) and the DoD, Defense Manpower Data Center (DMDC). DoD will disclose information about individuals who are in drill pay status. VBA will use this information as a match for recipients of Compensation and Pension benefits for adjustments of awards.

DATES: Comments on this matching program must be received no later than November 18, 2024. If no public comment is received during the period allowed for comment or unless otherwise published in the Federal Register by VA, the new agreement will become effective a minimum of 30 days after date of publication in the Federal Register. If VA receives public comments, VA shall review the comments to determine whether any changes to the notice are necessary. This matching program will be valid for 18 months from the effective date of this notice.

ADDRESSES: Comments may be submitted through www.Regulations.gov or mailed to VA Privacy Service, 810 Vermont Avenue NW, (005R1A), Washington, DC 20420. Comments should indicate that they are submitted in response to “CMA 89 Drill Pay”. Comments received will be available at regulations.gov for public viewing, inspection or copies.

FOR FURTHER INFORMATION CONTACT: Delonda Garmon (VBA), Program Analyst, Department of Veterans Affairs, 1800 G Street NW, Washington, DC 2006, 202-461-9700, Delonda.Garmon2@va.gov.

SUPPLEMENTARY INFORMATION: This agreement continues an arrangement for a periodic computer-matching program between the United States Department of Veterans Affairs (VA), Veterans Benefits Administration (VBA) as the matching recipient agency and the Department of Defense (DoD), Defense Manpower Data Center (DMDC) as the matching source agency. This agreement sets forth the responsibilities of VBA and DoD with respect to information disclosed pursuant to this agreement and takes into account both agencies' responsibilities under the Privacy Act of 1974, 5 U.S.C. 552a, as amended by the Computer Matching and Privacy Protection Act of 1988, as amended, and the regulations promulgated thereunder, including computer matching portions of a revision of OMB Circular No. A-130, 65 FR 77677 dated December 12, 2000.

Participating Agencies: The United States Department of Veterans Affairs (VA), Veterans Benefits Administration (VBA) as the matching recipient agency and the Department of Defense (DoD), Defense Manpower Data Center (DMDC) as the matching source agency.

Authority for Conducting the Matching Program: The legal authority for conducting the matching program for use in the administration of VA's Compensation and Pension Benefits Programs is contained in 38 U.S.C. 5304(c), Prohibition Against Duplication of Benefits, which precludes pension, compensation, or retirement pay on account of any person's own service, for any period for which he receives active duty pay. The law (10 U.S.C. 12316) prohibits the receipt of reserve pay and DVA compensation for the same time period, however, it does permit waiver of DVA compensation to draw reserve pay.”

Purpose(s): The purpose of this matching program between VBA and DoD is to identify those Veterans and VA beneficiaries who are in receipt of certain VA benefit payments and are in drilling status. VBA has the obligation to reduce or suspend compensation and pension benefit payments to veterans who are in drilling status. VBA will use the DoD records provided in the match to update the master records of veterans and VA beneficiaries receiving benefits and to adjust their VA benefits, accordingly, if needed.

Categories of Individuals:

1. Veterans who have applied for compensation for service-connected disability under 38 U.S.C. chapter 11.

2. Veterans who have applied for nonservice-connected disability under 38 U.S.C. chapter 15.

3. Veterans entitled to burial benefits under 38 U.S.C. chapter 23.

4. Surviving spouses and children who have claimed pensions based on nonservice-connected death of a veteran under 38 U.S.C. chapter 15.

5. Surviving spouses and children who have claimed death compensation based on service-connected death of a veteran under 38 U.S.C. chapter 11.

6. Surviving spouses and children who have claimed dependency and indemnity compensation for service-connected death of a veteran under 38 U.S.C. chapter 13.

7. Parents who have applied for death compensation based on service-connected death of a veteran under 38 U.S.C. chapter 11.

8. Parents who have applied for dependency and indemnity compensation for service-connected death of a veteran under 38 U.S.C. chapter 13.

9. Individuals who applied for educational assistance benefits administered by VA under title 38 of the U.S. Code.

10. Individuals who applied for educational assistance benefits maintained by the Department of Defense under title 10 of the U.S. Code that are administered by VA.

11. Veterans who apply for training and employers who apply for approval of their programs under the provisions of the Emergency Veterans' Job Training Act of 1983, Public Law 98-77.

12. Any VA employee who generates or finalizes adjudicative actions using the Benefits Delivery Network (BDN) or the Veterans Service Network (VETSNET) computer processing systems.

13. Veterans who apply for training and employers who apply for approval of their programs under the provisions of the Service Members Occupational Conversion and Training Act of 1992, Public Law 102-484.

14. Representatives of individuals covered by the system.

Categories of Records: The record, or information contained in the record, may include: 1. Name; 2. Social Security Number 3. Date of birth 4. Paid Inactive-duty training days 5. Paid Active-duty days.

System(s) of Records: Compensation, Pension, Education, and Vocational Rehabilitation and Employment Records—VA (58 VA 21/22/28), published at 86 FR 61858 (November 8, 2021). DMDC 01, entitled “Defense Manpower Data Center Data Base,” last published in the Federal Register on May 27, 2022, 87 FR 32145 and “Veterans Affairs/Department of Defense Identity Repository (VADIR)-VA (138VA005Q)”, last amended at 87 FR 79066 (December 23, 2022).

Signing Authority

The Senior Agency Official for Privacy, or designee, approved this document and authorized the undersigned to sign and submit the document to the Office of the Federal Register for publication electronically as an official document of the Department of Veterans Affairs. John Oswalt, Chief Privacy Officer and Chair of the Data Integrity Board, Department of Veterans Affairs approved this document on September 11, 2024 for publication.

Dated: October 15, 2024.
Amy L. Rose,
Government Information Specialist, VA Privacy Service, Office of Compliance, Risk and Remediation, Office of Information and Technology, Department of Veterans Affairs.

[FR Doc. 2024-24123 Filed 10-17-24; 8:45 am]

BILLING CODE 8320-01-P